NUCLEAR REGULATORY COMMISSION

10 CFR Chapter I

[NRC-2012-0092]

RIN 3150-AJ16

Technical Corrections

AGENCY: Nuclear Regulatory Commission.

ACTION: Final rule.

SUMMARY: The U.S. Nuclear Regulatory Commission (NRC or the Commission) is amending its regulations to make technical corrections, including updating the street address for its Region I office, correcting authority citations and typographical and spelling errors, and making other edits and conforming changes. This document is necessary to inform the public of these non-substantive changes to the NRC's regulations.

DATES: This rule is effective August 6, 2012.

FOR FURTHER INFORMATION CONTACT: Jennifer Borges, Rules, Announcements, and Directives Branch, Division of Administrative Services, Office of Administration, U.S. Nuclear Regulatory Commission, Washington, DC 20555-0001, telephone: 301-492-3675, email: Jennifer.Borges@nrc.gov.

ADDRESSES: Please refer to Docket ID NRC-2012-0092 when contacting the NRC about the availability of information for this final rule. You may access information and comment submittals related to this final rulemaking, which the NRC possesses and are publicly available, by any of the following methods:

• Federal Rulemaking Web Site: Go to http://www.regulations.gov and search for Docket ID NRC-2012-0092.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

SUPPLEMENTARY INFORMATION:

I. Introduction

The NRC is amending its regulations in Title 10 of the Code of Federal Regulations (10 CFR) Chapter I to make technical corrections. These changes include correcting the authority citations for 10 CFR parts 1, 2, 4, 7, 9, 10, 12, 13, 14, 15, 16, 19, 20, 21, 26, 30, 31, 32, 33, 34, 35, 36, 39, 40, 50, 51, 52, 54, 55, 60, 61, 62, 63, 70, 71, 72, 73, 74, 75, 76, 81, 95, 100, 140, 150, 160, 170, and 171; updating the street address for its Region I office; correcting typographical and spelling errors; and making other edits and conforming changes.

II. Summary of Changes

10 CFR Part 4

Revise Nomenclature. The words “handicap” and “handicapped” are replaced with the words “disability” and “disabled,” as appropriate.

10 CFR Part 10

Correct Title Designation. The position formerly entitled, “Deputy Executive Director for Information Services and Administration and Chief Information Officer,” no longer exists. A new position has been created and designated the title of “Deputy Executive Director for Corporate Management.” This new title designation replaces the former title in 10 CFR part 10.

10 CFR Part 20

Revise Office of Management and Budget (OMB)-Approved Information Collection List. In § 20.1009(b), the list of the OMB-approved information collection requirements is revised to remove the reference to § 20.2008 because the section no longer exists.

10 CFR Part 30

Revise Mailing Address. In § 34.20(a)(1), the mailing address of the American National Standards Institute, Inc., is revised to include their new mailing address.

Correct Reference. In § 30.34(h)(1)(ii), the section number under the reference to Title 11 of the United States Code (11 U.S.C.) is incorrect. In this paragraph, the reference “11 U.S.C. 101(14)” is replaced with the reference “11 U.S.C. 101(15).”

10 CFR Part 40

Revise OMB-Approved Information Collection List. In § 40.8, a new paragraph (c)(6) is added to the list of OMB-approved information collection requirements to include references to §§ 40.25 and 40.35, which have been approved by OMB.

Insert Missing Language. In appendix A to 10 CFR part 40, section I, criterion 4(d), the phrase “(on the order of 10 m or greater); impoundment slopes are very gentle (on the order of 10 h:1v)” was included in the original final rule, but was inadvertently omitted in the most recent amendments, even though Criterion 4 has not been amended since the original final rule. This resulted in incomplete language. In criterion 4(d), the phrase is added to read “(on the order of 10 m or greater); impoundment slopes are very gentle (on the order of 10 h:1v or less).”

Correct Typographical Error. In appendix A to 10 CFR part 40, section I, criterion 8A, the phrase “that is not corrected” is revised to read “that if not corrected.” In this phrase, the word “is” is replaced with “if.”

10 CFR Part 50

Revise OMB-Approved Information Collection List. In § 50.8(b), the list of OMB-approved information collection requirements is revised to add references to § 50.150 which was inadvertently omitted in the most recent amendments.

Correct Typographical Error. In appendix R to 10 CFR part 50, section III, paragraph G.3, the phrase “Alternative or dedicated” was inadvertently revised to read “Alternative of dedicated.” In this phrase, the word “of” is replaced with “or.”

10 CFR Part 51

Correct Address. In § 51.121(b), the addressee section, “ATTN: Chief, Rules and Directives Branch, Office of Administration” is revise to read, “ATTN: Rules, Announcements, and Directives Branch, Office of Administration” and the email address, “NRCREP@nrc.gov” is removed.

Correct Office Title. In § 51.122, the name of the office, formerly called, “Office of Information Resources Management,” is revised to read “Office of Information Services.”

10 CFR Part 71

Revise Table Entries and Footnote for Consistency. In appendix A to 10 CFR part 71, Table A-1, the values for the entries Bi-205, Cm-248, Eu-150 (long lived), and Te-132 (a), are revised for consistency with Title 49 of the Code of Federal Regulations, section 173.435. In addition, in Table A-1, footnote b is revised for clarity.

10 CFR Part 72

Revise OMB-Approved Information Collection List. In § 72.9(b), the list of OMB-approved information collection requirements is revised to remove the reference to §§ 72.8 and 72.216 because these sections no longer exist.

10 CFR Part 73

Revise OMB-Approved Information Collection List. In § 73.8(b), the list of OMB-approved information collection requirements is revised to add references to §§ 73.23 and 73.51 which have been approved by OMB.

Revise Language for Clarity. In § 73.55(e)(1)(ii), the word “physical” is added. The insertion of the word “physical” in this paragraph aids the reader in identifying the correct plan from among the ones defined in § 73.55(a).

In § 73.55(k)(8)(ii), the phrase, “indirect and neutralize the threat” is revised to read, “indirect and neutralize threats” for clarity and consistency with § 73.55(k)(1).

In § 73.55(m)(2), the phrase, “but not be limited to” is revised to read “but not limited to” for clarity and consistency with § 73.55(n)(1)(ii).

In § 73.55(m)(3), the first and second sentences are revised so that the word “and” is added, the comma following the word “form” is removed, and the word “operation” is revised to read “operations.” In § 73.55(m)(3), the sentence structure is revised for clarity.

In § 73.55(n)(1)(v), the word “component” has been revised to a plural term for consistency with § 73.55(o)(1).

In § 73.56(h)(4), the paragraph heading for the introductory text of paragraph (h)(4)(ii) is revised to provide clarification between the two types of interruptions discussed in this section. In paragraphs (h)(4)(ii)(A) and (B), paragraph headings are added for clarity and consistency.

In § 73.56(i)(1)(iv), the first sentence is revised to provide clarity and specify the amount of days that constitute an annual supervisory review.

In appendix C to 10 CFR part 73, section I, the word “Licensee” has been revised to a plural term to be consistent with the rest of the entities listed in the sentence.

In appendix C to 10 CFR part 73, section II, paragraphs B.3.c.(i) and B.3.c.(v)(4), the compound word “defense in depth” was not hyphenated. In these paragraphs, the compound word “defense in depth” is revised to read “defense-in-depth” for consistency with § 73.55(b)(3)(ii).

In appendix C, section II, paragraph B.3.c.(iii) is revised to remove the phrase, “training and qualification plans” for clarity and consistency with § 73.55(a)(1).

In appendix C to 10 CFR part 73, section II, paragraph B.3.c.(v)(1), the reference “performance objectives of § 73.55(a) through (k)” is replaced with the reference “performance requirements and objectives of § 73.55(a) through (k).”

In appendix C to 10 CFR part 73, section II, paragraph C.2, the phrase “Cyber Security Plan” is added as this plan is now part of the security program review.

Correct References. In § 73.55(c)(4), (d)(3), (g)(8)(iii), and appendix C to 10 CFR part 73, section II, paragraph A.(4), the title of appendix B to 10 CFR part 73 is removed and replaced with the title of section VI of appendix B to 10 CFR part 73.

In § 73.55(c)(5), the title of appendix C to 10 CFR part 73 is removed and replaced with the correct title and reference to section II of appendix C to 10 CFR part 73.

In appendix B to 10 CFR part 73, section VI, paragraph H.1., the reference to § 73.55(r) is replaced with the reference “§ 73.55(q).”

In appendix B to 10 CFR part 73, section VI, paragraph I, the reference to § 73.55(n) is replaced with the reference “§ 73.55(m).”

In appendix C to 10 CFR part 73, section II, paragraph C.1, the reference to § 73.55(n) is replaced with the reference “§ 73.55(m).”

In appendix C to 10 CFR part 73, section II, paragraph C.3, the reference to § 73.55 is replaced with the reference “§ 73.55(q).”

Correct Typographical Error. In § 73.55(i)(4)(ii)(G), the word “the” was omitted due to a clerical error. In this paragraph, the word “the” is added between the words “of” and “final” to correct the sentence structure.

In § 73.56(h)(4)(i) and (h)(4)(ii)(B), the word “proceeding” has been replaced with the word “preceding.”

In appendix B to 10 CFR part 73, section VI, paragraph C.3.(k)(3), an “r” was inadvertently omitted in the word “though.” In this paragraph, the word “though” is replaced with the word “through.”

Change in Street Address for Region I

The street address of the NRC Region I office has been changed. The new address is incorporated into the following sections of the NRC's regulations: § 1.5(b)(1), appendix D to 10 CFR part 20, § 30.6(b)(2)(i) and (b)(2)(ii), § 40.5(b)(2)(i) and (b)(2)(ii), § 55.5(b)(2)(i), § 70.5(b)(2)(i), and appendix A to 10 CFR part 73.

Revise Authority Citations

The authority citations for the following NRC regulations are revised to include conforming administrative changes: 10 CFR parts 1, 2, 4, 7, 9, 10, 12, 13, 14, 15, 16, 19, 20, 21, 26, 30, 31, 32, 33, 34, 35, 36, 39, 40, 50, 51, 52, 54, 55, 60, 61, 62, 63, 70, 71, 72, 73, 74, 75, 76, 81, 95, 100, 140, 150, 160, 170, and 171.

III. Rulemaking Procedure

Under the Administrative Procedure Act (5 U.S.C 553(b)), an agency may waive the normal notice and comments requirements if it finds, for good cause, that they are impracticable, unnecessary, or contrary to the public interest. The NRC finds that notice and comment for these amendments are unnecessary and contrary to the public interest because it will have no substantive impact, are technical in nature, and relate only to management, organization, procedure, and practice. The Commission is exercising its authority under 5 U.S.C. 553(b)(3)(B) to publish these amendments as a final rule. The amendments are effective August 6, 2012. These amendments do not require action by any person or entity regulated by the NRC. Also, the final rule does not change the substantive responsibilities of any person or entity regulated by the NRC.

As authorized by 5 U.S.C. 553(b)(3)(B), the NRC finds good cause to waive notice and opportunity for comment on the revisions listed above because these revisions are administrative in nature and do not change substantive requirements under the regulations. Specifically, the revisions are of the following types: corrections to cross-references where the cross-reference is now incorrect due to changes in the regulations; typographical and grammatical corrections; nomenclature changes that do not affect any requirements under the regulations; revisions to titles and office re-designations; address changes; revision to the OMB-approved list of information collections; revisions to table entries and footnotes for consistency; insertion of language that had been unintentionally deleted during the most recent revisions; and other minor changes in wording that do not change the substantive requirements for clarity and consistency. These corrections will reduce confusion among any person or entity regulated by the NRC, and therefore notice and comment is unnecessary.

IV. Environmental Impact: Categorical Exclusion

The NRC has determined that this final rule is the type of action described in categorical exclusion 10 CFR 51.22(c)(2), which excludes from a major action rules which are corrective or of a minor or nonpolicy nature and do not substantially modify existing regulations. Therefore, neither an environmental impact statement nor an environmental assessment has been prepared for this rule.

V. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid OMB control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfit Analysis

The NRC has determined that the administrative changes in the final rule do not constitute backfitting, and therefore a backfit analysis is not included. The revisions are administrative in nature, including typographical corrections and updates to references and authorities. They impose no new requirements and make no substantive changes to the regulations. The revisions do not involve any provisions that would impose backfits as defined in 10 CFR chapter I, or would be inconsistent with the issue finality provisions in 10 CFR part 52. For these reasons, the issuance of the rule in final form would not constitute backfitting. Therefore, a backfit analysis was not prepared.

List of Subjects

10 CFR Part 1

Organization and functions (government agencies).

10 CFR Part 2

Administrative practice and procedure, Antitrust, Byproduct material, Classified information, Environmental protection, Nuclear materials, Nuclear power plants and reactors, Penalties, Sex discrimination, Source material, Special nuclear material, Waste treatment and disposal.

10 CFR Part 4

Administrative practice and procedure, Blind, Buildings, Civil rights, Employment, Equal employment opportunity, Federal aid programs, Grant programs, Individuals with disabilities, Loan programs, Reporting and recordkeeping requirements, Sex discrimination.

10 CFR Part 7

Advisory committees, Sunshine Act.

10 CFR Part 9

Criminal penalties, Freedom of information, Privacy, Reporting and recordkeeping requirements, Sunshine Act.

10 CFR Part 10

Administrative practice and procedure, Classified information, Government employees, Security measures.

10 CFR Part 12

Adversary adjudications, Award, Equal Access to Justice Act, Final disposition, Net worth, Party.

10 CFR Part 13

Claims, Fraud, Organization and functions (government agencies), Penalties.

10 CFR Part 14

Administrative practice and procedure, Tort claims.

10 CFR Part 15

Administrative practice and procedure, Debt collection.

10 CFR Part 16

Administrative practice and procedure, Debt collection.

10 CFR Part 19

Criminal penalties, Environmental protection, Nuclear materials, Nuclear power plants and reactors, Occupational safety and health, Radiation protection, Reporting and recordkeeping requirements, Sex discrimination.

10 CFR Part 20

Byproduct material, Criminal penalties, Licensed material, Nuclear materials, Nuclear power plants and reactors, Occupational safety and health, Packaging and containers, Radiation protection, Reporting and recordkeeping requirements, Source material, Special nuclear material, Waste treatment and disposal.

10 CFR Part 21

Nuclear power plants and reactors, Penalties, Radiation protection, Reporting and recordkeeping requirements.

10 CFR Part 26

Alcohol abuse, Alcohol testing, Appeals, Chemical testing, Drug abuse, Drug testing, Employee assistance programs, Fitness for duty, Management actions, Nuclear power reactors, Protection of information, Reporting and recordkeeping requirements.

10 CFR Part 30

Byproduct material, Criminal penalties, Government contracts, Intergovernmental relations, Isotopes, Nuclear materials, Radiation protection, Reporting and recordkeeping requirements.

10 CFR Part 31

Byproduct material, Criminal penalties, Labeling, Nuclear materials, Packaging and containers, Radiation protection, Reporting and recordkeeping requirements, Scientific equipment.

10 CFR Part 32

Byproduct material, Criminal penalties, Labeling, Nuclear materials, Radiation protection, Reporting and recordkeeping requirements.

10 CFR Part 33

Byproduct material, Criminal penalties, Nuclear materials, Radiation protection, Reporting and recordkeeping requirements.

10 CFR Part 34

Criminal penalties, Packaging and containers, Radiation protection, Radiography, Reporting and recordkeeping requirements, Scientific equipment, Security measures.

10 CFR Part 35

Byproduct material, Criminal penalties, Drugs, Health facilities, Health professions, Medical devices, Nuclear materials, Occupational safety and health, Radiation protection, Reporting and recordkeeping requirements.

10 CFR Part 36

Byproduct material, Criminal penalties, Nuclear materials, Reporting and recordkeeping requirements, Scientific equipment, Security measures.

10 CFR Part 39

Byproduct material, Criminal penalties, Nuclear material, Oil and gas exploration—well logging, Reporting and recordkeeping requirements, Scientific equipment, Security measures, Source material, Special nuclear material.

10 CFR Part 40

Criminal penalties, Government contracts, Hazardous materials transportation, Nuclear materials, Reporting and recordkeeping requirements, Source material, Uranium.

10 CFR Part 50

Antitrust, Classified information, Criminal penalties, Fire protection, Intergovernmental relations, Nuclear power plants and reactors, Radiation protection, Reactor siting criteria, Reporting and recordkeeping requirements.

10 CFR Part 51

Administrative practice and procedure, Environmental impact statement, Nuclear materials, Nuclear power plants and reactors, Reporting and recordkeeping requirements.

10 CFR Part 52

Administrative practice and procedure, Antitrust, Backfitting, Combined license, Early site permit, Emergency planning, Fees, Inspection, Limited work authorization, Nuclear power plants and reactors, Probabilistic risk assessment, Prototype, Reactor siting criteria, Redress of site, Reporting and recordkeeping requirements, Standard design, Standard design certification.

10 CFR Part 54

Administrative practice and procedure, Age-related degradation, Backfitting, Classified information, Criminal penalties, Environmental protection, Nuclear power plants and reactors, Reporting and recordkeeping requirements.

10 CFR Part 55

Criminal penalties, Manpower training programs, Nuclear power plants and reactors, Reporting and recordkeeping requirements.

10 CFR Part 60

Criminal penalties, High-level waste, Nuclear materials, Nuclear power plants and reactors, Reporting and recordkeeping requirements, Waste treatment and disposal.

10 CFR Part 61

Criminal penalties, Low-level waste, Nuclear materials, Reporting and recordkeeping requirements, Waste treatment and disposal.

10 CFR Part 62

Administrative practice and procedure, Denial of access, Emergency access to low-level waste disposal, Low-level radioactive waste, Low-level radioactive waste treatment and disposal, Low-Level Waste Policy Amendments Act of 1985, Nuclear materials, Reporting and recordkeeping requirements.

10 CFR Part 63

Criminal penalties, High-level waste, Nuclear power plants and reactors, Reporting and recordkeeping requirements, Waste treatment and disposal.

10 CFR Part 70

Criminal penalties, Hazardous materials transportation, Material control and accounting, Nuclear materials, Packaging and containers, Radiation protection, Reporting and recordkeeping requirements, Scientific equipment, Security measures, Special nuclear material.

10 CFR Part 71

Hazardous materials transportation, Nuclear materials, Packaging and containers, Radioactive materials, Reporting and recordkeeping requirements.

10 CFR Part 72

Administrative practice and procedure, Criminal penalties, Manpower training programs, Nuclear materials, Occupational safety and health, Penalties, Radiation protection, Reporting and recordkeeping requirements, Security measures, Spent fuel, Whistleblowing.

10 CFR Part 73

Criminal penalties, Export, Hazardous materials transportation, Import, Nuclear materials, Nuclear power plants and reactors, Reporting and recordkeeping requirements, Security measures.

10 CFR Part 74

Accounting, Criminal penalties, Hazardous materials transportation, Material control and accounting, Nuclear materials, Packaging and containers, Radiation protection, Reporting and recordkeeping requirements, Scientific equipment, Special nuclear material.

10 CFR Part 75

Criminal penalties, Intergovernmental relations, Nuclear materials, Nuclear power plants and reactors, Reporting and recordkeeping requirements, Security measures.

10 CFR Part 76

Certification, Criminal penalties, Radiation protection, Reporting and recordkeeping requirements, Security measures, Special nuclear material, Uranium enrichment by gaseous diffusion.

10 CFR Part 81

Administrative practice and procedure, Inventions and patents.

10 CFR Part 95

Classified information, Criminal penalties, Reporting and recordkeeping requirements, Security measures.

10 CFR Part 100

Nuclear power plants and reactors, Reactor siting criteria.

10 CFR Part 140

Criminal penalties, Extraordinary nuclear occurrence, Insurance, Intergovernmental relations, Nuclear materials, Nuclear power plants and reactors, Reporting and recordkeeping requirements.

10 CFR Part 150

Criminal penalties, Hazardous materials transportation, Intergovernmental relations, Nuclear materials, Reporting and recordkeeping requirements, Security measures, Source material, Special nuclear material.

10 CFR Part 160

Federal buildings and facilities, Penalties, Security measures.

10 CFR Part 170

Byproduct material, Import and export licenses, Intergovernmental relations, Non-payment penalties, Nuclear materials, Nuclear power plants and reactors, Source material, Special nuclear material.

10 CFR Part 171

Annual charges, Byproduct material, Holders of certificates, registrations, approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 552 and 553, the NRC is adopting the following amendments to 10 CFR parts 1, 2, 4, 7, 9, 10, 12, 13, 14, 15, 16, 19, 20, 21, 26, 30, 31, 32, 33, 34, 35, 36, 39, 40, 50, 51, 52, 54, 55, 60, 61, 62, 63, 70, 71, 72, 73, 74, 75, 76, 81, 95, 100, 140, 150, 160, 170, and 171.

PART 1—STATEMENT OF ORGANIZATION AND GENERAL INFORMATION

1. Revise the authority citation for part 1 to read as follows:

Authority: Atomic Energy Act secs. 23, 29, 161, 191 (42 U.S.C. 2033, 2039, 2201, 2241); Energy Reorganization Act secs. 201, 203, 204, 205, 209 (42 U.S.C. 5841, 5843, 5844, 5845, 5849); 5 U.S.C. 552, 553; Reorganization Plan No. 1 of 1980, 45 FR 40561, June 16, 1980.

2. In § 1.5, revise paragraph (b)(1) to read as follows:

§ 1.5 Location of principal offices and regional offices.

* * * * *

(b) * * *

(1) Region I, U.S. NRC, 2100 Renaissance Boulevard, Suite 100, King of Prussia, PA 19406-2713.

* * * * *

PART 2—RULES OF PRACTICE FOR DOMESTIC LICENSING PROCEEDINGS AND ISSUANCE OF ORDERS

3. Revise the authority citation for part 2 to read as follows:

Authority: Atomic Energy Act secs.161, 181, 191 (42 U.S.C. 2201, 2231, 2241); Energy Reorganization Act sec. 201 (42 U.S.C. 5841); 5 U.S.C. 552; Government Paperwork Elimination Act sec. 1704 (44 U.S.C. 3504 note).

Section 2.101 also issued under Atomic Energy Act secs. 53, 62, 63, 81, 103, 104 (42 U.S.C. 2073, 2092, 2093, 2111, 2133, 2134, 2135); Nuclear Waste Policy Act sec. 114(f) (42 U.S.C. 10143(f)); National Environmental Policy Act sec. 102 (42 U.S.C. 4332); Energy Reorganization Act sec. 301 (42 U.S.C. 5871).

Sections 2.102, 2.103, 2.104, 2.105, 2.321 also issued under Atomic Energy Act secs. 102, 103, 104, 105, 183i, 189 (42 U.S.C. 2132, 2133, 2134, 2135, 2233, 2239). Sections 2.200-2.206 also issued under Atomic Energy Act secs. 161, 186, 234 (42 U.S.C. 2201(b), (i), (o), 2236, 2282); sec. 206 (42 U.S.C. 5846). Section 2.205(j) also issued under Pub. L. 101-410, as amended by section 3100(s), Pub. L. 104-134 (28 U.S.C. 2461 note). Subpart C also issued under Atomic Energy Act sec. 189 (42 U.S.C. 2239). Section 2.301 also issued under 5 U.S.C. 554. Sections 2.343, 2.346, 2.712 also issued under 5 U.S.C. 557. Section 2.340 also issued under Nuclear Waste Policy Act secs. 135, 141, Pub. L. 97-425, 96 Stat. 2232, 2241 (42 U.S.C. 10155, 10161). Section 2.390 also issued under 5 U.S.C. 552. Sections 2.600-2.606 also issued under sec. 102 (42 U.S.C. 4332). Sections 2.800 and 2.808 also issued under 5 U.S.C. 553. Section 2.809 also issued under 5 U.S.C. 553; Atomic Energy Act sec. 29 (42 U.S.C. 2039). Subpart K also issued under Atomic Energy Act sec. 189 (42 U.S.C. 2239); Nuclear Waste Policy Act sec. 134 (42 U.S.C. 10154). Subpart L also issued under Atomic Energy Act sec. 189 (42 U.S.C. 2239). Subpart M also issued under Atomic Energy Act sec. 184, 189 (42 U.S.C. 2234, 2239). Subpart N also issued under Atomic Energy Act sec. 189 (42 U.S.C. 2239).

PART 4—NONDISCRIMINATION IN FEDERALLY ASSISTED PROGRAMS OR ACTIVITIES RECEIVING FEDERAL FINANCIAL ASSISTANCE FROM THE COMMISSION

4. Revise the authority citation for part 4 to read as follows:

Authority: Atomic Energy Act secs. 161, 223, 234, 274 (42 U.S.C. 2201, 2273, 2282, 2021); Energy Reorganization Act sec. 201 (42 U.S.C. 5841); Government Paperwork Elimination Act sec. 1704 (44 U.S.C. 3504 note), Americans with Disabilities Act, 42 U.S.C. 12101 et seq.

Subpart A also issued under Civil Rights Act secs. 602-605 (42 U.S.C.-2000d-7); Energy Reorganization Act sec. 401 (42 U.S.C. 5891).

Subpart B also issued under Rehabilitation Act Amendments of 1973 sec. 504 (29 U.S.C. 706); secs. 119, 122, Pub. L. 95-602 (29 U.S.C. 794, 706(6)).

Subpart C also issued under Title III of Age Discrimination Act (42 U.S.C. 6101).

Subpart E also issued under Rehabilitation Act Amendments of 1973, 29 U.S.C. 794.

5. Amend part 4 as follows:

a. Wherever it appears, remove the word “handicapped” and add, in its place, the word “disabled”;

b. Wherever it appears, remove the word “Handicapped” and add, in its place, the word “Disabled”;

c. Wherever it appears, remove the word “handicap” and add, in its place, the word “disability”; and

d. Wherever it appears, remove the word “Handicap” and add, in its place, the word “Disability”.

PART 7—ADVISORY COMMITTEES

6. Revise the authority citation for part 7 to read as follows:

Authority: Atomic Energy Act sec. 161 (42 U.S.C. 2201); Energy Reorganization Act sec. 201 (42 U.S.C. 5841); 5 U.S.C. App.

PART 9—PUBLIC RECORDS

7. Revise the authority citation for part 9 to read as follows:

Authority: Atomic Energy Act sec. 161 (42 U.S.C. 2201); Energy Reorganization Act sec. 201 (42 U.S.C. 5841); Government Paperwork Elimination Act sec. 1704 (44 U.S.C. 3504 note).

Subpart A also issued under 5 U.S.C. 552; 31 U.S.C 9701.

Subpart B is also issued under 5 U.S.C. 552a.

Subpart C is also issued under 5 U.S.C. 552b.

PART 10—CRITERIA AND PROCEDURES FOR DETERMINING ELIGIBILITY FOR ACCESS TO RESTRICTED DATA OR NATIONAL SECURITY INFORMATION OR AN EMPLOYMENT CLEARANCE

8. Revise the authority citation for part 10 to read as follows:

Authority: Atomic Energy Act secs. 145, 161 (42 U.S.C. 2165, 2201); Energy Reorganization Act sec. 201 (42 U.S.C. 5841); E.O. 10450, 3 CFR parts 1949-1953 Comp., p. 936, as amended; E.O. 10865, 3 CFR Parts 1959-1963 Comp., p. 398, as amended; E.O. 12968, 3 CFR 1995 Comp., p. 396.

9. In part 10, wherever they appear, remove the words “Deputy Executive Director for Information Services and Administration” and add, in their place, the words “Deputy Executive Director for Corporate Management.”

PART 12—IMPLEMENTATION OF THE EQUAL ACCESS TO JUSTICE ACT IN AGENCY PROCEEDINGS

10. Revise the authority citation for part 12 to read as follows:

Authority: Equal Access to Justice Act sec. 203(a)(1) (5 U.S.C. 504 (c)(1)).

PART 13—PROGRAM FRAUD CIVIL REMEDIES

11. Revise the authority citation for part 13 to read as follows:

Authority: Omnibus Reconciliation Act of 1986, secs. 6101-6104 (31 U.S.C. 3801-3812); Government Paperwork Elimination Act sec. 1704 (44 U.S.C. 3504 note). Sections 13.13(a) and (b) also issued under Pub. L. 101-410, as amended by section 31001(s), Pub. L. 104-134, (28 U.S.C. 2461 note).

PART 14—ADMINISTRATIVE CLAIMS UNDER FEDERAL TORT CLAIMS ACT

12. Revise the authority citation for part 14 to read as follows:

Authority: Federal Tort Claims Act (28 U.S.C. 2672, 2679); Government Paperwork Elimination Act sec. 161 (42 U.S.C. 2201); 28 CFR 14.11.

PART 15—DEBT COLLECTION PROCEDURES

13. Revise the authority citation for part 15 to read as follows:

Authority: Atomic Energy Act secs. 161, 186 (42 U.S.C. 2201, 2236); Energy Reorganization Act sec. 201 (42 U.S.C. 5841); sec. 1, Pub. L. 97-258 (31 U.S.C. 3713); sec. 5, Pub. L. 89-508, (31 U.S.C. 3716); Pub. L. 97-365 (31 U.S.C. 3719); Federal Claims Collection Standards, 31 CFR Chapter IX, parts 900-904; 31 U.S.C. 3701, 3716; 31 CFR Sec. 285; 26 U.S.C. sec. 6402(d); 31 U.S.C. 3720A; 26 U.S.C. 6402(c); 42 U.S.C. 664; Pub. L. 104-134, as amended (31 U.S.C. 3713); 5 U.S.C. 5514; E.O. 12146 (3 CFR, 1980 Comp. pp. 409-412); E.O. 12988 (3 CFR, 1996 Comp., pp. 157-163); Government Paperwork Elimination Act sec. 1704 (44 U.S.C. 3504 note).

PART 16—SALARY OFFSET PROCEDURES FOR COLLECTING DEBTS OWED BY FEDERAL EMPLOYEES TO THE FEDERAL GOVERNMENT

14. Revise the authority citation for part 16 to read as follows:

Authority: Atomic Energy Act sec. 161 (42 U.S.C. 2201), Energy Reorganization Act sec. 201 (42 U.S.C. 5841); sec. 3, Pub. L. 89-508 (31 U.S.C. 3711, 3717, 3718); sec. 5. Pub. L. 89-508 (31 U.S.C. 3716), Debt Collection Act of 1982, Pub. L. 97-365, 96 Stat. 1749-1758; Federal Claims Collection Standards, 4 CFR parts 101-105; 5 U.S.C. 5514, as amended; 5 CFR 550.1101-550.1108.

PART 19—NOTICES, INSTRUCTIONS AND REPORTS TO WORKERS: INSPECTION AND INVESTIGATIONS

15. Revise the authority citation for part 19 to read as follows:

Authority: Atomic Energy Act secs. 53, 63, 81, 103, 104, 161, 186, 234, 1701 (42 U.S.C. 2073, 2093, 2111, 2133, 2134, 2201, 2236, 2282, 2297f); Energy Reorganization Act secs. 201, 211, Pub. L. 95-601, sec. 10, as amended by Pub. L. 102-486, sec. 2902 (42 U.S.C. 5841, 5851); Government Paperwork Elimination Act sec. 1704 (44 U.S.C. 3504 note).

Section 19.32 is also issued under Energy Reorganization Act sec. 401 (42 U.S.C. 5891).

PART 20—STANDARDS FOR PROTECTION AGAINST RADIATION

16. Revise the authority citation for part 20 to read as follows:

Authority: Atomic Energy Act secs. 53, 63, 65, 81, 103, 104, 161, 182, 186, 223, 234, 1701 (42 U.S.C. 2073, 2093, 2095, 2111, 2133, 2134, 2201, 2232, 2236, 2273, 2282, 2297f), Energy Reorganization Act secs. 201, 202, 206 (42 U.S.C. 5841, 5842, 5846);

Government Paperwork Elimination Act sec. 1704 (44 U.S.C. 3504 note); Energy Policy Act of 2005 sec. 651(e), Pub. L. 109-58, 119 Stat. 549 (2005) (42 U.S.C. 2014, 2021, 2021b, 2111).

17. In § 20.1009, revise paragraph (b) to read as follows:

§ 20.1009 Information collection requirements: OMB approval.

* * * * *

(b) The approved information collection requirements contained in this part appear in §§ 20.1003, 20.1101, 20.1202, 20.1203, 20.1204, 20.1206, 20.1208, 20.1301, 20.1302, 20.1403, 20.1404, 20.1406, 20.1501, 20.1601, 20.1703, 20.1901, 20.1904, 20.1905, 20.1906, 20.2002, 20.2004, 20.2005, 20.2006, 20.2102, 20.2103, 20.2104, 20.2105, 20.2106, 20.2107, 20.2108, 20.2110, 20.2201, 20.2202, 20.2203, 20.2204, 20.2205, 20.2206, 20.2207, 20.2301, and appendix G to this part.

* * * * *

18. In appendix D to part 20, revise the entry for Region I, to read as follows:

Appendix D to Part 20—United States Nuclear Regulatory Commission Regional Offices

| Address | Telephone (24-hour) | E-Mail
* * * * * * *
Region I: Connecticut, Delaware, District of Columbia, Maine, Maryland, Massachusetts, New Hampshire, New Jersey, New York, Pennsylvania, Rhode Island, and Vermont | USNRC, Region I, 2100 Renaissance Boulevard, Suite 100, King of Prussia, PA 19406-2713 | (610) 337-5000, (800) 432-1156 TDD: (301) 415-5575 | RidsRgn1MailCenter@nrc.gov.
* * * * * * *

PART 21—REPORTING OF DEFECTS AND NONCOMPLIANCE

19. Revise the authority citation for part 21 to read as follows:

Authority: Atomic Energy Act secs. 161, 223, 234, 1701 (42 U.S.C. 2201, 2273, 2282, 2297f); Energy Reorganization Act secs. 201, 206 (42 U.S.C. 5841, 5846); Government Paperwork Elimination Act sec. 1704 (44 U.S.C. 3504 note).

Section 21.2 also issued under Nuclear Waste Policy Act sec. 135 (42 U.S.C. 10155, 10161).

PART 26—FITNESS FOR DUTY PROGRAMS

20. Revise the authority citation for part 26 to read as follows:

Authority: Atomic Energy Act secs. 53, 81, 103, 104, 107, 161, 223, 234, 1701 (42 U.S.C. 2073, 2111, 2112, 2133, 2134, 2137, 2201, 2273, 2282, 2297f); Energy Reorganization Act secs. 201, 202, 206 (42 U.S.C. 5841, 5842, 5846); Government Paperwork Elimination Act sec. 1704 (44 U.S.C. 3504 note).

PART 30—RULES OF GENERAL APPLICABILITY TO DOMESTIC LICENSING OF BYPRODUCT MATERIAL

21. Revise the authority citation for part 30 to read as follows:

Authority: Atomic Energy Act secs. 81, 82, 161, 181, 182, 183, 186, 223, 234 (42 U.S.C. 2111, 2112, 2201, 2231, 2232, 2233, 2236, 2273, 2282); Energy Reorganization Act secs. 201, 202, 206 (42 U.S.C. 5841, 5842, 5846); Government Paperwork Elimination Act sec. 1704 (44 U.S.C. 3504 note); Energy Policy Act of 2005, Pub. L. 109-58, 119 Stat. 549 (2005).

Section 30.7 also issued under Energy Reorganization Act sec. 211, Pub. L. 95-601, sec. 10, as amended by Pub. L. 102-486, sec. 2902 (42 U.S.C. 5851). Section 30.34(b) also issued under Atomic Energy Act sec. 184 (42 U.S.C. 2234). Section 30.61 also issued under Atomic Energy Act sec. 187 (42 U.S.C. 2237).

22. In § 30.6, paragraph (b)(2)(i), revise the second sentence, and in paragraph (b)(2)(ii), revise the second sentence to read as follows:

§ 30.6 Communications.

* * * * *

(b) * * *

(2) * * *

(i) * * * All mailed or hand-delivered inquiries, communications, and applications for a new license or an amendment, renewal, or termination request of an existing license specified in paragraph (b)(1) of this section must use the following address: U.S. Nuclear Regulatory Commission, Region I, Nuclear Material Section B, Region I, 2100 Renaissance Boulevard, Suite 100, King of Prussia, PA 19406-2713; where email is appropriate it should be addressed to RidsRgn1MailCenter.Resource@nrc.gov.

(ii) * * * All mailed or hand-delivered inquiries, communications, and applications for a new license or an amendment, renewal, or termination request of an existing license specified in paragraph (b)(1) of this section must use the following address: U.S. Nuclear Regulatory Commission, Region I, Nuclear Material Section B, Region I, 2100 Renaissance Boulevard, Suite 100, King of Prussia, PA 19406-2713; where email is appropriate it should be addressed to RidsRgn1MailCenter.Resource@nrc.gov.

* * * * *

§ 30.34 [Amended]

23. In § 30.34, paragraph (h)(1)(ii), remove the reference “11 U.S.C. 101(14)” and add, in its place, the reference “11 U.S.C. 101(15).”

PART 31—GENERAL DOMESTIC LICENSES FOR BYPRODUCT MATERIAL

24. Revise the authority citation for part 31 to read as follows:

Authority: Atomic Energy Act secs. 81, 161, 183, 223, 234 (42 U.S.C. 2111, 2201, 2233, 2273, 2282); Energy Reorganization Act secs. 201, 202 (42 U.S.C. 5841, 5842); Government Paperwork Elimination Act sec. 1704 (44 U.S.C. 3504 note); Energy Policy Act of 2005, sec. 651(e), Pub. L. 109-58, 119 Stat. 806-810 (42 U.S.C. 2014, 2021, 2021b, 2111).

PART 32—SPECIFIC DOMESTIC LICENSES TO MANUFACTURE OR TRANSFER CERTAIN ITEMS CONTAINING BYPRODUCT MATERIAL

25. Revise the authority citation for part 32 to read as follows:

Authority: Atomic Energy Act secs. 81, 161, 181, 182, 183, 223, 234 (42 U.S.C. 2111, 2201, 2231, 2232, 2233, 2273, 2282); Energy Reorganization Act sec. 201 (42 U.S.C. 5841); Government Paperwork Elimination Act sec. 1704 (44 U.S.C. 3504 note); Energy Policy Act of 2005, sec. 651(e), Pub. L. 109-58, 119 Stat. 806-810 (42 U.S.C. 2014, 2021, 2021b, 2111).

PART 33—SPECIFIC DOMESTIC LICENSES OF BROAD SCOPE FOR BYPRODUCT MATERIAL

26. Revise the authority citation for part 33 to read as follows:

Authority: Atomic Energy Act secs. 81, 161, 181, 182, 183, 223, 234 (42 U.S.C. 2111, 2201, 2231, 2232, 2233, 2273, 2282); Energy Reorganization Act sec. 201 (42 U.S.C. 5841); Government Paperwork Elimination Act sec. 1704 (44 U.S.C. 3504 note); Energy Policy Act of 2005 sec. 651(e), Pub. L. 109-58, 119 Stat. 806-810 (42 U.S.C. 2014, 2021, 2021b, 2111).

PART 34—LICENSES FOR INDUSTRIAL RADIOGRAPHY AND RADIATION SAFETY REQUIREMENTS FOR INDUSTRIAL RADIOGRAPHIC OPERATIONS

27. Revise the authority citation for part 34 to read as follows:

Authority: Atomic Energy Act secs. 81, 161, 181, 182, 183, 223, 234 (42 U.S.C. 2111, 2201, 2231, 2232, 2233, 2273, 2282); Energy Reorganization Act sec. 201 (42 U.S.C. 5841); Government Paperwork Elimination Act sec. 1704, 112 Stat. 2750 (44 U.S.C. 3504 note). Atomic Energy Act of 2005 sec. 651(e), Pub. L. 109-58, 119 Stat. 806-810 (42 U.S.C. 2014, 2021, 2021b, 2111).

Section 34.45 also issued under Energy Reorganization Act sec. 206 (42 U.S.C. 5846).

28. In § 34.20, paragraph (a)(1), revise the third sentence to read as follows:

§ 34.20 Performance requirements for industrial radiography equipment.

* * * * *

(a)(1) * * * This publication may be purchased from the American National Standards Institute, Inc., 25 West 43rd Street, New York, New York 10036; Telephone: (212) 642-4900.* * *

* * * * *

PART 35—MEDICAL USE OF BYPRODUCT MATERIAL

29. Revise the authority citation for part 35 to read as follows:

Authority: Atomic Energy Act secs. 81, 161, 181, 182, 183, 223, 234 (42 U.S.C. 2111, 2201, 2231, 2232, 2233, 2273, 2282); Energy Reorganization Act sec. 201, 206 (42 U.S.C. 5841, 5842, 5846); sec. 1704 (44 U.S.C. 3504 note); Energy Policy Act of 2005, sec. 651(e), Pub. L. 109-58, 119 Stat. 806-810 (42 U.S.C. 2014, 2021, 2021b, 2111).

PART 36—LICENSES AND RADIATION SAFETY REQUIREMENTS FOR IRRADIATORS

30. Revise the authority citation for part 36 to read as follows:

Authority: Atomic Energy Act secs. 81, 82, 161, 181, 182, 183, 186, 223, 234 (42 U.S.C. 2111, 2112, 2201, 2232, 2233, 2236, 2273, 2282); Energy Reorganization Act secs. 201, 202, 206 (42 U.S.C. 5841, 5842, 5846); Government Paperwork Elimination Act sec. 1704 (44 U.S.C. 3504 note); Atomic Energy Act of 2005 sec. 651(e), Pub. L. 109-58, 119 Stat. 806-810 (42 U.S.C. 2014, 2021, 2021b, 2111).

PART 39—LICENSES AND RADIATION SAFETY REQUIREMENTS FOR WELL LOGGING

31. Revise the authority citation for part 39 to read as follows:

Authority: Atomic Energy Act secs. 53, 57, 62, 63, 65, 69, 81, 82, 161, 181, 182, 183, 186, 223, 234 (42 U.S.C. 2073, 2077, 2092, 2093, 2095, 2099, 2111, 2112, 2201, 2231, 2232, 2233, 2236, 2273, 2282); Energy Reorganization Act secs. 201, 202, 206 (42 U.S.C. 5841, 5842, 5846); Government Paperwork Elimination Act sec. 1704 (44 U.S.C. 3504 note).

PART 40—DOMESTIC LICENSING OF SOURCE MATERIAL

32. Revise the authority citation for part 40 to read as follows:

Authority: Atomic Energy Act secs. 11(e)(2), 62, 63, 64, 65, 81, 161, 181, 182, 183, 186, 193, 223, 234, 274, 275 (42 U.S.C. 2014(e)(2), 2092, 2093, 2094, 2095, 2111, 2113, 2114, 2201, 2231, 2232, 2233, 2236, 2243, 2273, 2282, 2021, 2022); Energy Reorganization Act secs. 201, 202, 206 (42 U.S.C. 5841, 5842, 5846); Government Paperwork Elimination Act sec. 1704 (44 U.S.C. 3504 note); Energy Policy Act of 2005, Pub. L. 109-59, 119 Stat. 594 (2005).

Section 40.7 also issued under Energy Reorganization Act sec. 211, Pub. L. 95-601, sec. 10, as amended by Pub. L. 102-486, sec. 2902 (42 U.S.C. 5851). Section 40.31(g) also issued under Atomic Energy Act sec. 122 (42 U.S.C. 2152). Section 40.46 also issued under Atomic Energy Act sec. 184 (42 U.S.C. 2234). Section 40.71 also issued under Atomic Energy Act sec. 187 (42 U.S.C. 2237).

33. In § 40.5, paragraph (b)(2)(i), revise the second sentence, and in paragraph (b)(2)(ii), revise the second sentence to read as follows:

§ 40.5 Communications.

* * * * *

(b) * * *

(2) * * *

(i) * * * All mailed or hand-delivered inquiries, communications, and applications for a new license or an amendment or renewal of an existing license specified in paragraph (b)(1) of this section must use the following address: U.S. Nuclear Regulatory Commission, Region I, Nuclear Material Section B, Region I, 2100 Renaissance Boulevard, Suite 100, King of Prussia, PA 19406-2713; where email is appropriate it should be addressed to RidsRgn1MailCenter.Resource@nrc.gov.

(ii) * * * All mailed or hand-delivered inquiries, communications, and applications for a new license or an amendment or renewal of an existing license specified in paragraph (b)(1) of this section must use the following address: U.S. Nuclear Regulatory Commission, Region I, Nuclear Material Section B, Region I, 2100 Renaissance Boulevard, Suite 100, King of Prussia, PA 19406-2713; where email is appropriate it should be addressed to RidsRgn1MailCenter.Resource@nrc.gov.

* * * * *

34. In § 40.8, add paragraph (c)(6) to read as follows:

§ 40.8 Information collection requirements: OMB approval.

* * * * *

(c) * * *

(5) * * *

(6) In §§ 40.25 and 40.35, NRC Form 244 is approved under control number 3150-0031.

35. In appendix A to part 40, section I, revise Criterion 4(d), eighth paragraph, and Criterion 8A, third sentence, to read as follows:

Appendix A to Part 40—Criteria Relating to the Operation of Uranium Mills and the Disposition of Tailings or Wastes Produced by the Extraction or Concentration of Source Material From Ores Processed Primarily for Their Source Material Content

* * * * *

I. * * *

Criterion 4. * * *

(d) * * *

Rock covering of slopes may be unnecessary where top covers are very thick (on the order of 10 m or greater); impoundment slopes are very gentle (on the order of 10 h:1v or less); bulk cover materials have inherently favorable erosion resistance characteristics; and, there is negligible drainage catchment area upstream of the pile and good wind protection as described in points (a) and (b) of this Criterion.

* * * * *

Criterion 8A. * * * The appropriate NRC regional office as indicated in appendix D to 10 CFR part 20 of this chapter, or the Director, Office of Nuclear Material Safety and Safeguards, U.S. Nuclear Regulatory Commission, Washington, DC 20555-0001, must be immediately notified of any failure in a tailings or waste retention system that results in a release of tailings or waste into unrestricted areas, or of any unusual conditions (conditions not contemplated in the design of the retention system) that if not corrected could indicate the potential or lead to failure of the system and result in a release of tailings or waste into unrestricted areas.

* * * * *

PART 50—DOMESTIC LICENSING OF PRODUCTION AND UTILIZATION FACILITIES

36. Revise the authority citation for part 50 to read as follows:

Authority: Atomic Energy Act secs. 102, 103, 104, 105, 147, 149, 161, 181, 182, 183, 186, 189, 223, 234 (42 U.S.C. 2132, 2133, 2134, 2135, 2167, 2169, 2201, 2231, 2232, 2233, 2236, 2239, 2273, 2282); Energy Reorganization Act secs. 201, 202, 206 (42 U.S.C. 5841, 5842, 5846); Nuclear Waste Policy Act sec. 306 (42 U.S.C. 10226); Government Paperwork Elimination Act sec. 1704 (44 U.S.C. 3504 note); Energy Policy Act of 2005, Pub. L. 109-58, 119 Stat. 194 (2005). Section 50.7 also issued under Pub. L. 95-601, sec. 10, as amended by Pub. L. 102-486, sec. 2902 (42 U.S.C. 5851). Section 50.10 also issued under Atomic Energy Act secs. 101, 185 (42 U.S.C. 2131, 2235); National Environmental Policy Act sec. 102 (42 U.S.C. 4332). Sections 50.13, 50.54(dd), and 50.103 also issued under Atomic Energy Act sec. 108 (42 U.S.C. 2138).

Sections 50.23, 50.35, 50.55, and 50.56 also issued under Atomic Energy Act sec. 185 (42 U.S.C. 2235). Appendix Q also issued under National Environmental Policy Act sec. 102 (42 U.S.C. 4332). Sections 50.34 and 50.54 also issued under sec. 204 (42 U.S.C. 5844). Sections 50.58, 50.91, and 50.92 also issued under Pub. L. 97-415 (42 U.S.C. 2239). Section 50.78 also issued under Atomic Energy Act sec. 122 (42 U.S.C. 2152). Sections 50.80—50.81 also issued under Atomic Energy Act sec. 184 (42 U.S.C. 2234).

37. In § 50.8, revise paragraph (b) to read as follows:

§ 50.8 Information collection requirements: OMB approval.

* * * * *

(b) The approved information collection requirements contained in this part appear in §§ 50.30, 50.33, 50.34, 50.34a, 50.35, 50.36, 50.36a, 50.36b, 50.44, 50.46, 50.47, 50.48, 50.49, 50.54, 50.55, 50.55a, 50.59, 50.60, 50.61, 50.61a, 50.62, 50.63, 50.64, 50.65, 50.66, 50.68, 50.69, 50.70, 50.71, 50.72, 50.74, 50.75, 50.80, 50.82, 50.90, 50.91, 50.120, 50.150, and appendices A, B, E, G, H, I, J, K, M, N,O, Q, R, and S to this part.

* * * * *

Appendix R to Part 50—[Amended]

38. In appendix R to part 50, section III, paragraph G.3, first sentence, remove the words “Alternative of dedicated” and add, in their place, the words “Alternative or dedicated.”

PART 51—ENVIRONMENTAL PROTECTION REGULATIONS FOR DOMESTIC LICENSING AND RELATED REGULATORY FUNCTIONS

39. Revise the authority citation for part 51 to read as follows:

Authority: Atomic Energy Act sec. 161, 1701 (42 U.S.C. 2201, 2297f); Energy Reorganization Act secs. 201, 202, 211 (42 U.S.C. 5841, 5842, 5851); Government Paperwork Elimination Act sec. 1704 (44 U.S.C. 3504 note). Subpart A also issued under National Environmental Policy Act secs. 102, 104, 105 (42 U.S.C. 4332, 4334, 4335); Pub. L. 95-604, Title II, 92 Stat. 3033-3041; Atomic Energy Act sec. 193 (42 U.S.C. 2243). Sections 51.20, 51.30, 51.60, 51.80. and 51.97 also issued under Nuclear Waste Policy Act secs. 135, 141, 148 (42 U.S.C. 10155, 10161, 10168). Section 51.22 also issued under Atomic Energy Act sec. 274 (42 U.S.C. 2021) and under Nuclear Waste Policy Act sec. 121 (42 U.S.C. 10141). Sections 51.43, 51.67, and 51.109 also issued under Nuclear Waste Policy Act sec. 114(f) (42 U.S.C. 10134(f)).

40. In § 51.121, revise paragraph (d) to read as follows:

§ 51.121 Status of NEPA actions.

* * * * *

(d) Rulemaking: ATTN: Rules, Announcements, and Directives Branch, Office of Administration, U.S. Nuclear Regulatory Commission, Washington, DC 20555-0001, telephone (800) 368-5642.

* * * * *

§ 51.122 [Amended]

41. In § 51.122, wherever it appears, remove the title for the “Office of Information Resources Management” and add, in its place, the title “Office of Information Services.”

PART 52—LICENSES, CERTIFICATIONS, AND APPROVALS FOR NUCLEAR POWER PLANTS

42. Revise the authority citation for part 52 to read as follows:

Authority: Atomic Energy Act secs. 103, 104, 147, 149, 161, 181, 182, 183, 185, 186, 189, 223, 234 (42 U.S.C. 2133, 2201, 2167, 2169, 2232, 2233, 2235, 2236, 2239, 2282); Energy Reorganization Act secs. 201, 202, 206, 211 (42 U.S.C. 5841, 5842, 5846, 5851); Government Paperwork Elimination Act sec. 1704 (44 U.S.C. 3504 note); Energy Policy Act of 2005, Pub. L. 109-58, 119 Stat. 594 (2005).

PART 54—REQUIREMENTS FOR RENEWAL OF OPERATING LICENSES FOR NUCLEAR POWER PLANTS

43. Revise the authority citation for part 54 to read as follows:

Authority: Atomic Energy Act secs. 102, 103, 104, 161, 181, 182, 183, 186, 189, 223, 234 (42 U.S.C. 2132, 2133, 2134, 2135, 2201, 2231, 2232, 2233, 2236, 2239, 2273, 2282); Energy Reorganization Act secs 201, 202, 206 (42 U.S.C. 5841, 5842); Government Paperwork Elimination Act sec. 1704 (44 U.S.C. 3504 note).

Section 54.17 also issued under E.O.12829, 3 CFR, 1993 Comp., p. 570; E.O. 13526, as amended, 3 CFR, 1995 Comp., p. 333; E.O. 12968, 3 CFR, 1995 Comp., p. 391.

PART 55—OPERATORS' LICENSES

44. Revise the authority citation for part 55 to read as follows:

Authority: Atomic Energy Act secs. 107, 161, 181, 182, 68 Stat. 939, 948, 953, 223, 234 (42 U.S.C. 2137, 2201, 2231, 2232, 2273, 2282); Energy Reorganization Act secs. 201, 202 (42 U.S.C. 5841, 5842); Government Paperwork Elimination Act sec. 1704 (44 U.S.C. 3504 note). Sections 55.41, 55.43, 55.45, and 55.59 also issued under Nuclear Waste Policy Act sec. 306 (42 U.S.C. 10226).

Section 55.61 also issued under Atomic Energy Act secs. 186, 187 (42 U.S.C. 2236, 2237).

45. In § 55.5, paragraph (b)(2)(i), revise the second sentence to read as follows:

§ 55.5 Communications.

* * * * *

(b) * * *

(2) * * *

(i) * * * Submissions by mail or hand delivery must be addressed to the Administrator at U.S. Nuclear Regulatory Commission, 2100 Renaissance Boulevard, Suite 100, King of Prussia, PA 19406-2713; where email is appropriate it should be addressed to RidsRgn1MailCenter.Resource@nrc.gov.

* * * * *

PART 60—DISPOSAL OF HIGH-LEVEL RADIOACTIVE WASTES IN GEOLOGIC REPOSITORIES

46. Revise the authority citation for part 60 to read as follows:

Authority: Atomic Energy Act secs. 51, 53, 62, 63, 65, 81, 161, 182, 183, 223, 234 (42 U.S.C. 2071, 2073, 2092, 2093, 2095, 2111, 2201, 2232, 2233, 2273, 2282); Energy Reorganization Act secs. 201, 202, 206, 211, Pub. L. 95-601, sec. 10, as amended by Pub. L. 102-486, sec. 2902 (42 U.S.C. 5841, 5842, 5846, 5851); sec. 14, Pub. L. 95-601 (42 U.S.C. 2021a); National Environmental Policy Act sec. 102 (42 U.S.C. 4332); Nuclear Waste Policy Act secs. 114, 117, 121 (42 U.S.C. 10134, 10137, 10141); Government Paperwork Elimination Act sec. 1704 (44 U.S.C. 3504 note); Energy Policy Act of 2005, Pub. L. 109-58, 119 Stat. 594 (2005).

PART 61—LICENSING REQUIREMENTS FOR LAND DISPOSAL OF RADIOACTIVE WASTE

47. Revise the authority citation for part 61 to read as follows:

Authority: Atomic Energy Act secs. 53, 57, 62, 63, 65, 81, 161, 181, 182, 183, 223, 234 (42 U.S.C. 2073, 2077, 2092, 2093, 2095, 2111, 2201, 2231, 2232, 2233, 2273, 2282); Energy Reorganization Act secs. 201, 202, 206 (42 U.S.C. 5841, 5842, 5846), sec. 211, Pub. L. 95-601, sec. 10, as amended by Pub. L. 102-486, sec. 2902 (42 U.S.C. 5851). Pub. L. 95-601, sec. 10, 14, 92 Stat. 2951, 2953 (42 U.S.C. 2021a, 5851); Government Paperwork Elimination Act sec. 1704 (44 U.S.C. 3504 note); Energy Policy Act of 2005, sec. 651(e), Pub. L. 109-58, 119 Stat. 806-810 (42 U.S.C. 2014, 2021, 2021b, 2111).

PART 62—CRITERIA AND PROCEDURES FOR EMERGENCY ACCESS TO NON-FEDERAL AND REGIONAL LOW-LEVEL WASTE DISPOSAL FACILITIES

48. Revise the authority citation for part 62 to read as follows:

Authority: Atomic Energy Act secs. 81, 161, 274 (42 U.S.C. 2111, 2201, 2021); Energy Reorganization Act secs. 201, 209 (42 U.S.C. 5841, 5849); Government Paperwork Elimination Act sec. 1704 (44 U.S.C. 3504 note); Energy Policy Act of 2005, sec. 651(e), Pub. L. 109-58, 119 Stat. 806-810 (42 U.S.C. 2014, 2021, 2021b, 2111).

PART 63—DISPOSAL OF HIGH-LEVEL RADIOACTIVE WASTES IN A GEOLOGIC REPOSITORY AT YUCCA MOUNTAIN, NEVADA

49. Revise the authority citation for part 63 to read as follows:

Authority: Atomic Energy Act secs. 51, 53, 62, 63, 65, 81, 161, 182, 183, (42 U.S.C. 2071, 2073, 2092, 2093, 2095, 2111, 2201, 2232, 2233); Energy Reorganization Act secs. 201, 202, 206, 211 (42 U.S.C. 5841, 5842, 5846, 5851); sec 14, Pub. L. 95-601 (42 U.S.C. 2021a); National Environmental Policy Act sec. 102 (42 U.S.C. 4332); Nuclear Waste Policy Act secs. 114, 117, 121 (42 U.S.C. 10134, 10137, 10141; sec. 1704, 112 Stat. 2750 (44 U.S.C. 3504 note); Energy Policy Act of 2005, Pub. L. 109-58, 119 Stat. 594 (2005).

PART 70—DOMESTIC LICENSING OF SPECIAL NUCLEAR MATERIAL

50. Revise the authority citation for part 70 to read as follows:

Authority: Atomic Energy Act secs. 51, 53, 161, 182, 183, 193, 223, 234 (42 U.S.C. 2071, 2073, 2201, 2232, 2233, 2243, 2273, 2282, 2297f); secs. 201, 202, 204, 206, 211 (42 U.S.C. 5841, 5842, 5845, 5846, 5851); Government Paperwork Elimination Act sec. 1704 (44 U.S.C. 3504 note); Energy Policy Act of 2005, Pub. L. 109-58, 119 Stat. 194 (2005).

Sections 70.1(c) and 70.20a(b) also issued under secs. 135, 141, Pub. L. 97-425, 96 Stat. 2232, 2241 (42 U.S.C. 10155, 10161).

Section 70.21(g) also issued under Atomic Energy Act sec. 122 (42 U.S.C. 2152). Section 70.31 also issued under Atomic Energy Act sec. 57(d) (42 U.S.C. 2077(d)). Sections 70.36 and 70.44 also issued under Atomic Energy Act sec. 184 (42 U.S.C. 2234). Section 70.81 also issued under Atomic Energy Act secs. 186, 187 (42 U.S.C. 2236, 2237). Section 70.82 also issued under Atomic Energy Act sec. 108 (42 U.S.C. 2138).

51. In § 70.5, paragraph (b)(2)(i), revise the second sentence to read as follows:

§ 70.5 Communications.

* * * * *

(b) * * *

(2) * * *

(i) * * * All mailed or hand-delivered inquiries, communications, and applications for a new license or an amendment or renewal of an existing license specified in paragraph (b)(1) of this section must use the following address: U.S. Nuclear Regulatory Commission, Region I, Nuclear Material Section B, 2100 Renaissance Boulevard, Suite 100, King of Prussia, PA 19406-2713; where email is appropriate it should be addressed to RidsRgn1MailCenter.Resource@nrc.gov.

PART 71—PACKAGING AND TRANSPORTATION OF RADIOACTIVE MATERIAL

52. Revise the authority citation for part 71 to read as follows:

Authority: Atomic Energy Act secs. 53, 57, 62, 63, 81, 161, 182, 183, 223, 234, 1701 (42 U.S.C. 2073, 2077, 2092, 2093, 2111, 2201, 2232, 2233, 2273, 2282, 2297f); Energy Reorganization Act secs. 201, 202, 206, 211 (42 U.S.C. 5841, 5842, 5846, 5851); Nuclear Waste Policy Act sec. 180 (42 U.S.C. 10175); Government Paperwork Elimination Act sec. 1704 (44 U.S.C. 3504 note); Energy Policy Act of 2005, Pub. L. 109-58, 119 Stat. 594 (2005). Section 71.97 also issued under sec. 301, Pub. L. 96-295, 94 Stat. 789-790.

53. In appendix A to part 71, Table A-1, revise the entries for Bi-205, Cm-248, Eu-150 (long lived), Te-132 (a), and footnote b to read as follows:

* * * * *

Table A-1—A1 and A2 Values for Radionuclides
Symbol of radionuclide | Element and atomic number | A1 (TBq) | A1 (Ci)ᵇ | A2 (TBq) | A2 (Ci)ᵇ | Specific activity: (TBq/g) | Specific activity: (Ci/g)
* * * * * * *
Bi-205 | Bismuth (83) | 7.0 × 10⁻¹ | 1.9 × 10¹ | 7.0 × 10⁻¹ | 1.9 × 10¹ | 1.5 × 10³ | 4.2 × 10⁴
* * * * * * *
Cm-248 |  | 2.0 × 10⁻² | 5.4 × 10⁻¹ | 3.0 × 10⁻⁴ | 8.1 × 10⁻³ | 1.6 × 10⁻⁴ | 4.2 × 10⁻³
* * * * * * *
Eu-150 (long lived) |  | 7.0 × 10⁻¹ | 1.9 × 10¹ | 7.0 × 10⁻¹ | 1.9 × 10¹ | 6.1 × 10⁴ | 1.6 × 10⁶
* * * * * * *
Te-132 (a) |  | 5.0 × 10⁻¹ | 1.4 × 10¹ | 4.0 × 10⁻¹ | 1.1 × 10¹ | 1.1 × 10⁴ | 3.0 × 10⁵
* * * * * * *
* * * * * * *
ᵇ The values of A1 and A2 in Curies (Ci) are approximate and for information only; the regulatory standard units are Terabecquerels (TBq) (see Appendix A to part 71—Determination of A1 and A2, Section I).

* * * * *

PART 72—LICENSING REQUIREMENTS FOR THE INDEPENDENT STORAGE OF SPENT NUCLEAR FUEL, HIGH-LEVEL RADIOACTIVE WASTE AND REACTOR-RELATED GREATER THAN CLASS C WASTE

54. Revise the authority citation for part 72 to read as follows:

Authority: Atomic Energy Act secs. 51, 53, 57, 62, 63, 65, 69, 81, 161, 182, 183, 184, 186, 187, 189, 223, 234, 274 (42 U.S.C. 2071, 2073, 2077, 2092, 2093, 2095, 2099, 2111, 2201, 2232, 2233, 2234, 2236, 2237, 2238, 2273, 2282, 2021); Energy Reorganization Act sec. 201, 202, 206, 211 (42 U.S.C. 5841, 5842, 5846, 5851); National Environmental Policy Act sec. 102 (42 U.S.C. 4332); Nuclear Waste Policy Act secs. 131, 132, 133, 135, 137, 141 148 (42 U.S.C. 10151, 10152, 10153, 10155, 10157, 10161, 10168); sec. 1704, 112 Stat. 2750 (44 U.S.C. 3504 note); Energy Policy Act of 2005, Pub. L. 109-58, 119 Stat. 549 (2005).

Section 72.44(g) also issued under secs. Nuclear Waste Policy Act 142(b) and 148(c), (d) (42 U.S.C. 10162(b), 10168(c), (d)). Section 72.46 also issued under Atomic Energy Act sec. 189 (42 U.S.C. 2239); Nuclear Waste Policy Act sec. 134 (42 U.S.C. 10154). Section 72.96(d) also issued under Nuclear Waste Policy Act sec. 145(g) (42 U.S.C. 10165(g)). Subpart J also issued under Nuclear Waste Policy Act secs. 117(a), 141(h) (42 U.S.C. 10137(a), 10161(h)). Subpart K is also issued under sec. 218(a) (42 U.S.C. 10198).

55. In § 72.9, revise paragraph (b) to read as follows:

§ 72.9 Information collection requirements: OMB approval.

* * * * *

(b) The approved information collection requirements contained in this part appear in §§ 72.7, 72.11, 72.16, 72.22 through 72.34, 72.42, 72.44, 72.48 through 72.56, 72.62, 72.70, through 72.80, 72.90, 72.92, 72.94, 72.98, 72.100, 72.102, 72.103, 72.104, 72.108, 72.120, 72.126, 72.140 through 72.176, 72.180 through 72.186, 72.192, 72.206, 72.212, 72.218, 72.230, 72.232, 72.234, 72.236, 72.240, 72.242, 72.244, 72.248.

* * * * *

PART 73—PHYSICAL PROTECTION OF PLANTS AND MATERIALS

56. Revise the authority citation for part 73 to read as follows:

Authority: Atomic Energy Act secs. 53, 147, 161, 223, 234, 1701 (42 U.S.C. 2073, 2167, 2169, 2201, 2273, 2282, 2297(f), 2210(e)); Energy Reorganization Act sec. 201, 204 (42 U.S.C. 5841, 5844); Government Paperwork Elimination Act sec. 1704, 112 Stat. 2750 (44 U.S.C. 3504 note); Energy Policy Act of 2005, Pub. L. 109-58, 119 Stat. 594 (2005).

Section 73.1 also issued under Nuclear Waste Policy Act secs. 135, 141 (42 U.S.C, 10155, 10161). Section 73.37(f) also issued under sec. 301, Pub. L. 96-295, 94 Stat. 789 (42 U.S.C. 5841 note).

57. In § 73.8, revise paragraph (b) to read as follows:

§ 73.8 Information collection requirements: OMB approval.

* * * * *

(b) The approved information collection requirements contained in this part appear in §§ 73.5, 73.20, 73.21, 73.23, 73.24, 73.25, 73.26, 73.27, 73.37, 73.40, 73.45, 73.46, 73.50, 73.51, 73.54, 73.55, 73.56, 73.57, 73.58, 73.60, 73.67, 73.70, 73.71, 73.72, 73.73, 73.74, and appendices B, C, and G to this part.

* * * * *

58. Amend § 73.55 as follows:

a. In paragraph (c)(4), remove the words “appendix B, to this part, “General Criteria for Security Personnel,”” and add, in their place, the words “appendix B, section VI, to this part, “Nuclear Power Reactor Training and Qualification Plan for Personnel Performing Security Program Duties,””;

b. In paragraph (c)(5), remove the words “appendix C, to this part, “Licensee Safeguards Contingency Plans,”” and add, in their place, the words “appendix C, section II, to this part, “Nuclear Power Plant Safeguards Contingency Plans,””;

c. In paragraph (d)(3), first sentence, remove the reference “appendix B” and add, in its place, the reference “appendix B, section VI,”;

d. Revise paragraph (e)(1)(ii);

e. In paragraph (g)(8)(iii), remove the reference “appendix B of this part” and add, in its place, the reference “appendix B, section VI, of this part”;

f. Revise paragraph (i)(4)(ii)(G);

g. In paragraph (k)(8)(ii), remove the words “interdict and neutralize the threat” and add, in their place, the words “interdict and neutralize threats”; and

h. Revise paragraphs (m)(2), (m)(3), and (n)(1)(v).

The revisions read as follows:

§ 73.55 Requirements for physical protection of licensed activities in nuclear power reactors against radiological sabotage.

* * * * *

(e) * * *

(1) * * *

(ii) Describe in the physical security plan, physical barriers, barrier systems, and their functions within the physical protection program.

* * * * *

(i) * * *

(4) * * *

(ii) * * *

(G) Ensure that operators in both alarm stations are knowledgeable of the final disposition of all alarms.

* * * * *

(m) * * *

(2) Reviews of the security program must include, but not limited to, an audit of the effectiveness of the physical security program, security plans, implementing procedures, cyber security programs, safety/security interface activities, the testing, maintenance, and calibration program, and response commitments by local, State, and Federal law enforcement authorities.

(3) The results and recommendations of the onsite physical protection program reviews, management's findings regarding program effectiveness, and any actions taken as a result of recommendations from prior program reviews, must be documented in a report to the licensee's plant manager and to corporate management at least one level higher than that having responsibility for day-to-day plant operations. These reports must be maintained in an auditable form and available for inspection.

* * * * *

(n) * * *

(1) * * *

(v) Implement compensatory measures that ensure the effectiveness of the onsite physical protection program when there is a failure or degraded operation of security-related components or equipment.

* * * * *

59. Amend § 73.56 as follows:

a. In paragraph (h)(4)(i), third sentence, and paragraph (h)(4)(ii)(B), second sentence, remove the word “proceeding” and add, in its place, the word “preceding”;

b. Revise the paragraph heading for the introductory text of paragraph (h)(4)(ii) and add headings for paragraphs (h)(4)(ii)(A) and (h)(4)(ii)(B); and

c. Revise paragraph (i)(1)(iv), the first sentence.

The revisions read as follows:

§ 73.56 Personnel access authorization requirements for nuclear power plants.

* * * * *

(h) * * *

(4) * * *

(ii)Interruption of unescorted access or unescorted access authorization. * * *

(A)Update of unescorted access or unescorted access authorization. * * *

(B) Reinstatement of unescorted access or unescorted access authorization. * * *

* * * * *

(i) * * *

(1) * * *

(iv) The individual is subject to an annual (within 365 calendar days) supervisory review conducted in accordance with the requirements of the licensee's or applicant's behavioral observation program. * * *

* * * * *

60. In appendix A to part 73, revise the entry for Region I to read as follows:

Appendix A to Part 73—U.S. Nuclear Regulatory Commission Offices and Classified Mailing Addresses

| Address | Telephone (24 hour) | E-Mail
* * * * * * *
Region I: Connecticut, Delaware, District of Columbia, Maine, Maryland, Massachusetts, New Hampshire, New Jersey, New York, Pennsylvania, Rhode Island, and Vermont. | USNRC, Region I, 2100 Renaissance Boulevard, Suite 100, King of Prussia, PA 19406-2713 | (610) 337-5000, (800) 432-1156 TDD: (301) 415-5575 | RidsRgn1MailCenter@nrc.gov
* * * * * * *

Appendix B to Part 73—[Amended]

61. Amend appendix B, section VI, as follows:

a. In paragraph C.3(k)(3), remove the word “though” and add, in its place, the word “through”;

b. In paragraph H.1, remove the reference “§ 73.55(r)” and add, in its place, the reference “§ 73.55(q)”; and

c. In paragraph I., remove the reference “§ 73.55(n)” and add, in its place, the reference “§ 73.55(m).”

Appendix C to Part 73—[Amended]

62. Amend appendix C as follows:

a. In section I, introductory text, remove the word “Licensee” and add, in its place, the word “Licensees”;

b. In section II, paragraph A.(4), last paragraph, remove the reference “appendix B of this part, General Criteria for Security Personnel” and add, in its place, the reference “appendix B, section VI of this part, Nuclear Power Reactor Training and Qualification Plan for Personnel Performing Security Program Duties”;

c. In section II, paragraphs B.3.c.(i) and B.3.c.(v)(4), remove the words “defense in depth” and add in its place the word “defense-in-depth”;

d. In section II, paragraph B.3.c.(iii) remove the phrase “training and qualification plans,”;

e. In section II, paragraph B.3.c.(v)(1) remove the phrase “performance objectives of § 73.55(a) through (k)” and add, in its place, the reference “performance requirements and objectives of § 73.55(a) through (k)”;

f. In section II, paragraph C.1, remove the reference “§ 73.55(n)” and add, in its place, the reference “§ 73.55(m)”; and

g. In section II, paragraph C.3, remove the reference “§ 73.55” and add, in its place, the reference “§ 73.55(q).”

PART 74—MATERIAL CONTROL AND ACCOUNTING OF SPECIAL NUCLEAR MATERIAL

63. Revise the authority citation for part 74 to read as follows:

Authority: Atomic Energy Act secs. 53, 57, 161, 182, 183, 223, 234, 1701 (42 U.S.C.2073, 2077, 2201, 2232, 2233, 2273, 2282, 2297f); Energy Reorganization Act secs. 201, 202, 206 (42 U.S.C. 5841, 5842, 5846); Government Paperwork Elimination Act sec. 1704 (44 U.S.C. 3504 note).

PART 75—SAFEGUARDS ON NUCLEAR MATERIAL—IMPLEMENTATION OF US/IAEA AGREEMENT

64. Revise the authority citation for part 75 to read as follows:

Authority: Atomic Energy Act secs. 53, 63, 103, 104, 122, 161, 223, 234 (42 U.S.C. 2073, 2093, 2133, 2134, 2152, 2201, 2273, 2282); Energy Reorganization Act sec. 201 (42 U.S.C. 5841); Government Paperwork Elimination Act sec. 1704 (44 U.S.C. 3504 note).

Section 75.4 also issued under Nuclear Waste Policy Act secs. 135 (42 U.S.C. 10155, 10161).

PART 76—CERTIFICATION OF GASEOUS DIFFUSION PLANTS

65. Revise the authority citation for part 76 to read as follows:

Authority: Atomic Energy Act secs. 161, 223, 234, 1312, 1701 (42 U.S.C. 2201, 2273, 2282, 2297b-11, 2297f); Energy Reorganization Act secs. 201, 204, 206, 211 (42 U.S.C. 5841, 5842, 5845, 5846, 5851); Government Paperwork Elimination Act sec. 1704 (44 U.S.C. 3504 note); Energy Policy Act of 2005, Pub. L. 109-58, 119 Stat. 549 (2005).

Section 76.22 is also issued under Atomic Energy Act sec. 193(f) (42 U.S.C. 2243(f)). Section 76.35(j) also issued under Atomic Energy Act sec. 122 (42 U.S.C. 2152).

PART 81—STANDARD SPECIFICATIONS FOR THE GRANTING OF PATENT LICENSES

66. Revise the authority citation for part 81 to read as follows:

Authority: Atomic Energy Act secs. 156, 161 (42 U.S.C. 2186, 2201); Energy Reorganization Act sec. 201 (42 U.S.C. 5841); Government Paperwork Elimination Act sec. 1704 (44 U.S.C. 3504 note).

PART 95—FACILITY SECURITY CLEARANCE AND SAFEGUARDING OF NATIONAL SECURITY INFORMATION AND RESTRICTED DATA

67. Revise the authority citation for part 95 to read as follows:

Authority: Atomic Energy Act secs. 145, 161, 223, 234 (42 U.S.C. 2165, 2201, 2273, 2282); Energy Reorganization Act sec. 201 (42 U.S.C. 5841); Government Paperwork Elimination Act sec. 1704 (44 U.S.C. 3504 note); E.O. 10865, as amended, 3 CFR 1959-1963 Comp., p. 398 (50 U.S.C. 401, note); E.O. 12829, 3 CFR, 1993 Comp., p. 570; E.O. 13526, 3 CFR, 2010 Comp., pp. 298-327; E.O. 12968, 3 CFR, 1995 Comp., p. 391; E.O. 13526, 3 CFR, 2010 Comp., p. 298.

PART 100—REACTOR SITE CRITERIA

68. Revise the authority citation for part 100 to read as follows:

Authority: Atomic Energy Act secs. 103, 104, 161, 182 (42 U.S.C. 2133, 2134, 2201, 2232); Energy Reorganization Act secs. 201, 202 (42 U.S.C. 5841, 5842); Government Paperwork Elimination Act sec. 1704 (44 U.S.C. 3504 note).

PART 140—FINANCIAL PROTECTION REQUIREMENTS AND INDEMNITY AGREEMENTS

69. Revise the authority citation for part 140 to read as follows:

Authority: Atomic Energy Act secs. 161, 170, 223, 234 (42 U.S.C. 2201, 2210, 2273, 2282); Energy Reorganization Act secs. 201, as amended, 202 (42 U.S.C. 5841, 5842); Government Paperwork Elimination Act sec. 1704 (44 U.S.C. 3504 note); Energy Policy Act of 2005, Pub. L. 109-58, 119 Stat. 594 (2005).

PART 150—EXEMPTIONS AND CONTINUED REGULATORY AUTHORITY IN AGREEMENT STATES AND IN OFFSHORE WATERS UNDER SECTION 274

70. Revise the authority citation for part 150 to read as follows:

Authority: Atomic Energy Act secs. 161, 181, 223, 234 (42 U.S.C. 2201, 2021, 2231, 2273, 2282); Energy Reorganization Act sec. 201 (42 U.S.C. 5841); Government Paperwork Elimination Act sec. 1704 (44 U.S.C. 3504 note); Energy Policy Act of 2005, Pub. L. 109-58, 119 Stat. 594 (2005).

Sections 150.3, 150.15, 150.15a, 150.31, 150.32 also issued under Atomic Energy Act secs. 11e(2), 81, 83, 84 (42 U.S.C. 2014e(2), 2111, 2113, 2114). Section 150.14 also issued under Atomic Energy Act sec. 53 (42 U.S.C. 2073).

Section 150.15 also issued under Nuclear Waste Policy Act sec. 135 (42 U.S.C. 10155, 10161). Section 150.17a also issued under Atomic Energy Act sec. 122 (42 U.S.C. 2152). Section 150.30 also issued under Atomic Energy Act sec. 234 (42 U.S.C. 2282).

PART 160—TRESPASSING ON COMMISSION PROPERTY

71. Revise the authority citation for part 160 to read as follows:

Authority: Atomic Energy Act secs. 161, 229, 223, 234 (42 U.S.C. 2201, 2278a, 2273, 2282); Energy Reorganization Act sec. 201 (42 U.S.C. 5841).

PART 170—FEES FOR FACILITIES, MATERIALS IMPORT AND EXPORT LICENSES AND OTHER REGULATORY SERVICES UNDER THE ATOMIC ENERGY ACT OF 1954, AS AMENDED

72. Revise the authority citation for part 170 to read as follows:

Authority: Independent Offices Appropriations Act sec. 501 (31 U.S.C. 9701); Atomic Energy Act sec. 161(w) (42 U.S.C. 2201(w)); Energy Reorganization Act sec. 201 (42 U.S.C. 5841); Chief Financial Officers Act sec. 205 (31 U.S.C. 901, 902); Government Paperwork Elimination Act sec. 1704 (44 U.S.C. 3504 note); Energy Policy Act sec. 623, Energy Policy Act of 2005 sec. 651(e), Pub. L. 109-58,119 Stat. 783 (42 U.S.C. 2201(w), 2014, 2021, 2021b, 2111).

PART 171—ANNUAL FEES FOR REACTOR LICENSES AND FUEL CYCLE LICENSES AND MATERIAL LICENSES, INCLUDING HOLDERS OF CERTIFICATES OF COMPLIANCE, REGISTRATIONS, AND QUALITY ASSURANCE PROGRAM APPROVALS AND GOVERNMENT AGENCIES LICENSED BY THE NRC

73. Revise the authority citation for part 171 to read as follows:

Authority: Consolidated Omnibus Budget Reconciliation Act sec. 6101 Pub. L. 99-272, as amended by sec. 5601, Pub. L. 100-203 as amended by sec. 3201, Pub. L. 101-239, as amended by sec. 6101, Pub. L. 101-508, as amended by sec. 2903a, Pub. L. 102-486 (42 U.S.C. 2213, 2214), and as amended by Title IV, Pub. L. 109-103 (42 U.S.C. 2214); Atomic Energy Act sec. 161(w), 223, 234 (42 U.S.C. 2201(w), 2273, 2282); Energy Reorganization Act sec. 201 (42 U.S.C. 5841); Government Paperwork Elimination Act sec. 1704 (44 U.S.C. 3504 note); Energy Policy Act of 2005 sec. 651(e), Pub. L. 109-58 (42 U.S.C. 2014, 2021, 2021b, 2111).

Dated at Rockville, Maryland, this 27th day of June 2012.
For the Nuclear Regulatory Commission.
Cindy Bladey,
Chief, Rules, Announcements, and Directives Branch, Division of Administrative Services, Office of Administration.

[FR Doc. 2012-16176 Filed 7-5-12; 8:45 am]

BILLING CODE 7590-01-P